DEPARTMENT OF HOMELAND SECURITY

Coast Guard

[Docket No. USCG-2016-0104]

Navigation and Vessel Inspection Circular (NVIC) No. 02-16; Inspection Guidance for Sail Rigging and Masts on Inspected Sailing Vessels

AGENCY: Coast Guard, DHS.

ACTION: Notice of availability.

SUMMARY: The Coast Guard announces the availability of NVIC 02-16. This Circular provides guidance to vessel owners, riggers, marine surveyors, other marine service providers, and Coast Guard marine inspectors regarding inspection of sail rigging, masts, and associated components for commercial sailing vessels and the use of preventative maintenance as a good marine practice. It provides guidance for the purpose of assisting vessel owners and operators, and U.S. Coast Guard personnel with the inspection and recommended documentation of maintenance for sail rigging and masts on inspected sailing vessels. It is intended to enhance consistency with the Coast Guard inspection process for the commercial sailing fleet.

DATES: NVIC 02-16 is available on April 13, 2016.

ADDRESSES: This NVIC is available at the following Coast Guard Web site: http://www.uscg.mil/hq/cg5/nvic/.

FOR FURTHER INFORMATION CONTACT: If you have questions on this notice, call LCDR James T. Fogle, Office of Commercial Vessel Compliance, Coast Guard, telephone 202—372-1216, email James.T.Fogle@uscg.mil.

Dated: April 13, 2016.
Paul F. Thomas,
USCG, Assistant Commandant for Prevention Policy.

[FR Doc. 2016-09022 Filed 4-18-16; 8:45 am]

BILLING CODE 9110-04-P